DEPARTMENT OF ENERGY

Federal Energy Regulatory Commission

[Docket No. RP00-294-000]

TransColorado Gas Transmission Company; Notice of Tariff Filing

May 25, 2000.

Take notice that on May 22, 2000, TransColorado Gas Transmission Company (TransColorado) tendered for filing to become part of its FERC Gas Tariff, Original Volume No. 1, Fourth Revised Sheet Nos. 205 and 206 and Second Revised Sheet No. 206A, to be effective June 1, 2000.

In Order No. 587-G, in Docket No. RM96-1-007 the Commission required that interstate pipeline companies conduct all business transactions using internet communication, implementing standards for these communications. The original implementation date for these requirements was June 1, 1999. However, in Order No. 587-1, the Commission deferred the implementation date to June 1, 2000. The purpose of this filing was to make changes to TransColorado's tariff associated with implementation of internet communications effective June 1, 2000.

TransColorado states that a copy of this filing has been served upon TransColorado's customers, the Colorado Public Utilities Commission and New Mexico Public Utilities Commission.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm. (call 202-208-2222 for assistance).

Linwood A. Watson, Jr.,
Acting Secretary.

[FR Doc. 00-13630 Filed 5-31-00; 8:45 am]

BILLING CODE 6717-01-M